DEPARTMENT OF JUSTICE

[OMB Number 1110-0048]

Agency Information Collection Activities: Proposed eCollection, eComments Requested; Extension of a Currently Approved Collection Cargo Theft Incident Report

AGENCY: Federal Bureau of Investigation, Department of Justice

ACTION: 60 day notice.

SUMMARY: The Department of Justice, Federal Bureau of Investigation, Criminal Justice Information Services Division (CJIS) has submitted the following Information Collection Request to the Office of Management and Budget (OMB) for review and clearance in accordance with the established review procedures of the Paperwork Reduction Act of 1995.

DATES: The Federal Register will October 13, 2015.

FOR FURTHER INFORMATION CONTACT: All comments, suggestions, or questions regarding additional information, to include obtaining a copy of the proposed information collection instrument with instructions, should be directed to Mr. Samuel Berhanu, Unit Chief, Federal Bureau of Investigation, CJIS Division, Module E-3, 1000 Custer Hollow Road, Clarksburg, West Virginia 26306; facsimile (304) 625-3566.

SUPPLEMENTARY INFORMATION: Written comments and suggestions from the public and affected agencies concerning the proposed collection of information are encouraged. Comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of This Information Collection

(1) Type of Information Collection: Extension of a currently approved collection.

(2) The Title of the Form/Collection: Cargo Theft Incident Report.

(3) The agency form number, if any, and the applicable component of the department sponsoring the collection: Form Number 1110-0048.

Sponsor: Criminal Justice Information Services Division, Federal Bureau of Investigation, Department of Justice.

(4) Affected public who will be asked or required to respond, as well as a brief abstract: Primary: City, county, state, federal, and tribal law enforcement agencies. Abstract: This collection is needed to collect information on cargo theft incidents committed throughout the United States.

(5) An estimate of the total number of respondents and the amount of time estimated for an average respondent to respond: There are approximately 18,415 law enforcement agency respondents that submit monthly for a total of 220,980 responses with an estimated response time of 5 minutes per response.

(6) An estimate of the total public burden (in hours) associated with this collection: There are approximately 18,415 hours, annual burden, associated with this information collection.

If additional information is required contact: Jerri Murray, Department Clearance Officer, Policy and Planning Staff, Justice Management Division, United States Department of Justice, Two Constitution Square, 145 N Street NE., Room 3E.405, Washington, DC 20530.

Dated: August 10, 2015.
Jerri Murray,
Department Clearance Officer for PRA, United States Department of Justice.

[FR Doc. 2015-19938 Filed 8-12-15; 8:45 am]

BILLING CODE 4410-02-P